ENVIRONMENTAL PROTECTION AGENCY

[FRL-8278-9]

Notice of Availability of the Final Nanotechnology White Paper.

AGENCY: Environmental Protection Agency (EPA).

ACTION: Notice of Document Availability.

SUMMARY: The U.S. Environmental Protection Agency (EPA) is announcing the availability of the final “Nanotechnology White Paper” (EPA/100/B-07/001, February 2007). The purpose of the White Paper is to inform EPA management of the science issues and needs associated with nanotechnology, to support related EPA program office needs, and to communicate these nanotechnology science issues to stakeholders and the public. Nanotechnology is the understanding and control of matter at dimensions of roughly 1 to 100 nanometers, where unique phenomena enable novel applications. Encompassing nanoscale science, engineering and technology, nanotechnology involves imaging, measuring, modeling and manipulating matter at this length scale. At the nanoscale, the physical, chemical and biological properties of materials may differ in fundamental and valuable ways from the properties of individual atoms and molecules or bulk matter. Nanotechnology presents new opportunities to improve how we measure, monitor, manage and minimize contaminants in the environment. New generations of nanomaterials will evolve and with them new and possibly unforeseen environmental issues.

The White Paper provides a basic description of nanotechnology, why EPA is interested in it, potential environmental benefits of nanotechnology, risk assessment issues specific to nanotechnology, and a discussion of responsible development of nanotechnology and the Agency's statutory mandates. The paper then provides an extensive review of research needs for both environmental applications and implications of nanotechnology. To help EPA focus on priorities for the near term, the paper concludes with staff recommendations for addressing science issues and research needs, and includes prioritized research needs within most risk assessment topic areas (e.g., human health effects research, fate and transport research). In addition, the White Paper includes as Appendix C “EPA's Nanotechnology Research Framework.” The Nanotechnology Research Framework outlines how EPA will strategically focus its own research program to provide key information on potential environmental impacts from human or ecological exposure to nanomaterials in a manner that complements other federal, academic, and private-sector research activities. The Framework was developed by a cross agency team as a follow-up effort to the White Paper. The White Paper and Framework note the importance of complementing EPA's own research program by collaborating with other researchers.

ADDRESSES: The final document is available electronically through the Office of the Science Advisor's Web site at: http://www.epa.gov/osa/nanotech.htm. A limited number of paper copies will be available from EPA's National Service Center for Environmental Publications (NSCEP), P.O. Box 42419, Cincinnati, OH 45242; telephone 1-800-490-9198; facsimile 301-604-3408; e-mail NSCEP@bps-lmit.com. Please provide your name and mailing addresses and the title and EPA number of the requested publication.

FOR FURTHER INFORMATION CONTACT: Dr. Kathryn Gallagher, Office of the Science Advisor, Mail Code 8105-R, Environmental Protection Agency, 1200 Pennsylvania Avenue, N.W., Washington, DC 20460; telephone number: (202) 564-1398; fax number: (202) 564-2070, E-mail: gallagher.kathryn@epa.gov.

SUPPLEMENTARY INFORMATION: In December 2004, EPA's Science Policy Council created a cross-Agency workgroup charged with describing key science issues EPA should consider to ensure that society accrues the important benefits to environmental protection that nanotechnology may offer, as well as to better understand any potential risks from exposure to nanomaterials in the environment. This paper is the product of that workgroup. The draft paper was released as an external peer review draft in December 2005, and a Federal Register Notice (70 FR 75812) announced its availability and the opening of a docket for public comments. The document underwent independent peer review during an April 2006 expert peer review meeting (71 FR 14205), which was convened, organized and conducted by an EPA contractor. The external peer review meeting was publicly held, all public comments received in the docket were shared with the peer reviewers, and members of the public were also invited to give oral or provide written comments at the workshop regarding the draft document under review. The EPA revised the draft following the peer review meeting, and peer review and public comments were taken into consideration in finalizing the document.

Dated: February 12, 2007.
George M. Gray,
EPA Science Advisor.

[FR Doc. E7-2768 Filed 2-14-07; 8:45 am]

BILLING CODE 6560-50-P